DEPARTMENT OF COMMERCE

International Trade Administration

Renewable Energy and Energy Efficiency Advisory Committee

AGENCY: International Trade Administration, U.S. Department of Commerce.

ACTION: Notice of an open meeting.

SUMMARY: The Renewable Energy and Energy Efficiency Advisory Committee (RE&EEAC) will meet via conference call on May 15, 2014. The RE&EEAC agenda is now amended. The Committee will hear updates from four subcommittees: trade policy, finance, trade promotion, and U.S. Competiveness. The Committee will offer edits and suggestions on potential recommendations to each subcommittee in preparation for a future RE&EEAC meeting.

DATES: May 15, 2014, from 2:00 p.m. to 4:00 p.m. Eastern Daylight Time (EDT).

ADDRESSES: The meeting will be held via conference call.

FOR FURTHER INFORMATION CONTACT: Ryan Mulholland, Office of Energy and Environmental Technologies Industries (OEEI), International Trade Administration, U.S. Department of Commerce at (202) 482-4693; email: ryan.mulholland@trade.gov. This conference call is accessible to people with disabilities. Requests for auxiliary aids should be directed to OEEI at (202) 482-4693 at least 3 working days prior to the event.

SUPPLEMENTARY INFORMATION: Background: The Secretary of Commerce established the RE&EEAC pursuant to his discretionary authority and in accordance with the Federal Advisory Committee Act (5 U.S.C. App.) on June 19, 2012. The RE&EEAC provides the Secretary of Commerce with consensus advice from the private sector on the development and administration of programs and policies to enhance the international competitiveness of the U.S. RE&EE industries. The RE&EEAC held its first meeting on February 20, 2013 and several subsequent meetings throughout 2013 and 2014. The Committee's charter expires June 18, 2014.

The meeting is open to the public. Members of the public wishing to attend the conference call should have notified Mr. Ryan Mulholland to pre-register and receive call-in information at the contact information above by 5:00 p.m. EDT on Friday, May 9, as stated in the Federal Register notice of May 6, 2014. Requests for reasonable accommodation should have also been received by Friday, May 9. Last minute requests will be accepted, but may be impossible to fill.

Any member of the public may submit pertinent written comments concerning the RE&EEAC's affairs at any time before or after the meeting. Comments may be submitted to ryan.mulholland@trade.gov or to the Renewable Energy and Energy Efficiency Advisory Committee, Office of Energy and Environmental Technologies Industries (OEEI), International Trade Administration, Room 4053; 1401 Constitution Avenue NW., Washington, DC 20230. To be considered during the meeting, comments should have been received no later than 5:00 p.m. EDT on Friday, May 9, 2014, to ensure transmission to the Committee prior to the meeting. Comments received after that date will be distributed to the members, but may not be considered at the meeting.

Copies of RE&EEAC meeting minutes will be available within 30 days of the meeting.

Catherine P. Vial,
Team Leader for Environmental Industries, Office of Energy and Environmental Industries.

[FR Doc. 2014-11102 Filed 5-13-14; 8:45 am]

BILLING CODE 3510-DR-P